DEPARTMENT OF TRANSPORTATION

Federal Aviation Administration

Public Notice for Waiver of Aeronautical Land-Use Assurance

AGENCY: Federal Aviation Administration (FAA), DOT.

ACTION: Notice of intent of waiver with respect to land; Minneapolis-St. Paul International Airport, Minneapolis, Minnesota.

SUMMARY: The FAA is considering a proposal to change 5.69 acres of airport land from aeronautical use to non-aeronautical use and to authorize the lease of airport property located at Minneapolis-St. Paul International Airport, Minneapolis, Minnesota. The aforementioned land is not needed for aeronautical use.

The subject property is located to the southeast of United States Post Office and south of the Terminal 1 inbound and outbound roadways located at Minneapolis-St. Paul International Airport, Minneapolis, Minnesota. The subject property does not currently have a designated use. The proposed non-aeronautical use of the property is for the construction of a hotel.

DATES: Comments must be received on or before July 22, 2016.

ADDRESSES: Documents are available for review by appointment at the FAA Dakota-Minnesota Airports District Office, Simon Schmitz, Program Manager, 6020 28th Avenue South, Room 102, Minneapolis, MN 55450-2706. Telephone Number (612) 253-4640/FAX Number (612) 253-4611. Documents reflecting this FAA action may be reviewed at this same location or at the Metropolitan Airports Commission, 6040 28th Avenue South, Minneapolis, MN 55450-2799.

Written comments on the Sponsor's request must be delivered or mailed to: Dakota-Minnesota Airports District Office, 6020 28th Avenue South, Room 102, Minneapolis, MN 55450-2706.

FOR FURTHER INFORMATION CONTACT: Simon Schmitz, Program Manager, 6020 28th Avenue South, Room 102, Minneapolis, MN 55450-2706. Telephone Number (612) 253-4640/FAX Number (612) 253-4611.

SUPPLEMENTARY INFORMATION: In accordance with section 47107(h) of Title 49, United States Code, this notice is required to be published in the Federal Register 30 days before modifying the land-use assurance that requires the property to be used for an aeronautical purpose.

The site was part of a 1955 land conveyance from the Administrator of Veterans' Affairs to the Metropolitan Airports Commission. The subject property is located southeast of the United States Post Office and south of the Terminal 1 inbound and outbound roadways at Minneapolis-St. Paul International Airport, Minneapolis, Minnesota. The subject property was previously leased by Northwest Airlines as an office building with an attached hangar. The office building and hangar have since been demolished and the site does not currently have a designated use. The proposed non-aeronautical use of the property is a ground lease for the development of a hotel which will generate additional revenue for the airport. The Metropolitan Airports Commission intends to enter into a 75-year fair market value lease with a hotel developer. The proposed ground lease will provide for reappraisal of the fair market ground rent as frequently as every five (5) years. The disposition of proceeds from the lease of the airport property will be in accordance with FAA's Policy and Procedures Concerning the Use of Airport Revenue, published in the Federal Register on February 16, 1999 (64 FR 7696).

This notice announces that the FAA is considering the release of the subject airport property at the Minneapolis-St. Paul International Airport, Minneapolis, Minnesota, from its obligations to be maintained for aeronautical purposes. Approval does not constitute a commitment by the FAA to financially assist in the change in use of the subject airport property nor a determination of eligibility for grant-in-aid funding from the FAA.

Following is a legal description of the subject airport property to be released at the Minneapolis-St. Paul International Airport, Minneapolis, Minnesota:

The Southwest Quarter of Section 29, Township 26 North, Range 23 West, Hennepin County, Minnesota.

Described as commencing at the northwest corner of Section 30, Township 28 North, Range 23 West, Hennepin County, Minnesota; thence South 00 degrees 25 minutes 00 seconds West, assumed bearing, along the west line of the Northwest Quarter of said Section 30 a distance of 705.21 feet; thence South 58 degrees 46 minutes 43 seconds East a distance of 7307.61 feet; thence North 31 degrees 14 minutes 07 seconds East a distance if 33.30 feet; thence South 58 degrees 45 minutes 53 seconds East a distance of 45.62 feet to the point of beginning; thence North 31 degrees 15 minutes 57 seconds East a distance of 726.77 feet; thence South 58 degrees 44 minutes 03 seconds East a distance of 681.60 feet; thence South 74 degrees 25 minutes 44 seconds West a distance if 996.38 feet to the point of beginning. Total Area: 5.69 acres (247.681 square feet).

Issued in Minneapolis, Minnesota, on June 7, 2016.
Andy Peek,
Manager, Dakota-Minnesota Airports District Office, FAA, Great Lakes Region.

[FR Doc. 2016-14803 Filed 6-21-16; 8:45 am]

BILLING CODE 4910-13-P